DEPARTMENT OF ENERGY

Subcommittee on Accelerator Transmutation of Waste of the Nuclear Energy Research Advisory Committee

AGENCY: Department of Energy.

ACTION: Notice of Open Meeting.

SUMMARY: This notice announces a meeting of the Subcommittee on Accelerator Transmutation of Waste of the Nuclear Energy Research Advisory Committee. The Federal Advisory Committee Act (Pub. L. No. 92-463, 86 Stat. 770), requires that public notice of the meetings be announced in the Federal Register.

DATES: March 30, 2000, 9 AM-Noon.

ADDRESSES: Rotunda Conference Room, University of New Mexico Science and Technology Park, 801 University Boulevard, SE, Albuquerque, New Mexico 87106.

FOR FURTHER INFORMATION CONTACT: Dr. Norton Haberman, Designated Federal Officer, Nuclear Energy Research Advisory Committee, U.S. Department of Energy (DOE), NE-1, 1000 Independence Avenue, SW, Washington DC 20585, Telephone Number 202-586-0126, E-mail: Norton.Haberman@hq.doe.gov.

SUPPLEMENTARY INFORMATION: Purpose of the Meeting: The Subcommittee on the Accelerator Transmutation of Waste of the Nuclear Energy Research Advisory Committees has been requested to provide the Director of the Office of Nuclear Energy, Science and Technology with recommendations on the future course of the Accelerator Transmutation of Waste program. The program, as currently constituted, is proceeding according to the guidelines laid down in DOE/RW-0519, “A Roadmap for Developing Accelerator Transmutation of Waste (ATW) Technology.” The subcommittee will consider the views of individuals and corporations that have positions on the structure and content of the Accelerator Transmutation of Waste program.

Tentative Agenda

Thursday, March 30, 2000

The agenda for this meeting will be dependent on the responses to this Notice.

Public Participation: The meeting is open to the public on a first-come, first-serve basis. Written statements may be filed with the committee before or after the meeting. Members of the public who wish to make oral statements should contact Norton Haberman at the address or telephone listed above. Such statements should be limited to 15 minutes. Requests to make oral statements must be made and received five days prior to the meeting. The Chair of the committee is empowered to conduct the meeting in a fashion that will facilitate the orderly conduct of business.

Minutes: The minutes of this meeting will be available for public review and copying at the Freedom of Information Reading Room. 1E-190, Forrestal Building, 1000 Independence Avenue, S.W., Washington, D.C., between 9:00 a.m. and 4:00 p.m., Monday through Friday, except holidays.

Issued in Washington DC on March 6, 2000.
Rachel M. Samuel,
Deputy Advisory Committee Management Officer.

[FR Doc. 00-5940 Filed 3-9-00; 8:45 am]

BILLING CODE 6450-01-P